FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, if any, are available for immediate inspection at the Federal Reserve Bank indicated. The applications will also be available for inspection at the offices of the Board of Governors. Interested persons may express their views in writing on the standards enumerated in the BHC Act (12 U.S.C. 1842(c)).

Comments regarding each of these applications must be received at the Reserve Bank indicated or the offices of the Board of Governors, Ann E. Misback, Secretary of the Board, 20th and Constitution Avenue NW, Washington, DC 20551-0001, not later than November 14, 2019.

A. Federal Reserve Bank of Atlanta (Kathryn Haney, Assistant Vice President) 1000 Peachtree Street NE, Atlanta, Georgia 30309. Comments can also be sent electronically to Applications.Comments@atl.frb.org:

1. FB Financial Corporation, Nashville, Tennessee; to merge with FNB Financial Corp., Scottsville, Kentucky, and thereby directly acquire The Farmers National Bank of Scottsville, Bowling Green, Kentucky.

B. Federal Reserve Bank of Chicago (Colette A. Fried, Assistant Vice President) 230 South LaSalle Street, Chicago, Illinois 60690-1414:

1. High Point Financial Services, Inc., Forreston, Illinois; to acquire The Poplar Grove State Bank, Poplar Grove, Illinois.

C. Federal Reserve Bank of Cleveland (Nadine Wallman, Vice President) 1455 East Sixth Street, Cleveland, Ohio 44101-2566. Comments can also be sent electronically to Comments.applications@clev.frb.org:

1. First Defiance Financial Corporation, Defiance, Ohio; to become a bank holding company upon the conversion of its wholly-owned subsidiary, First Federal Bank of the Midwest, Defiance, Ohio, from a federally-chartered savings bank to a state-chartered commercial bank. In addition, First Defiance Financial Corporation to acquire United Community Financial Corporation and thereby indirectly acquire Home Savings Bank, both of Youngstown, Ohio.

Board of Governors of the Federal Reserve System, October 10, 2019.
Yao-Chin Chao,
Assistant Secretary of the Board.

[FR Doc. 2019-22540 Filed 10-15-19; 8:45 am]

BILLING CODE P